DEPARTMENT OF AGRICULTURE

Commodity Credit Corporation

Notice of Request for an Extension of a Currently Approved Information Collection

AGENCY: Commodity Credit Corporation, USDA.

ACTION: Notice and request for comments.

SUMMARY: In accordance with the Paperwork Reduction Act of 1995, this notice announces the Commodity Credit Corporation's (CCC) intention to request an extension of a currently approved information collection procedure in support of the Regulations—Financing Commercial Sales of Agricultural Commodities under Title I, Public Law 83-480; Request for Vessel Approval, Form CCC-105 and Request for Vessel Approval, Form CCC-105 (cotton); and Declaration of Sale, Form FAS-359.

DATES: Comments on this notice must be received by January 15, 2010.

ADDRESSES: Mail or deliver comments to Ronald Croushorn, Director, Food Assistance Division, Office of Capacity Building and Development, Foreign Agricultural Service, U.S. Department of Agriculture, Stop 1034, 1400 Independence Ave., SW., Washington, DC 20250-1034, or to the Desk Officer for Agriculture, Office of Information and Regulatory Affairs, Office of Management and Budget, Washington, DC 20503.

FOR FURTHER INFORMATION CONTACT: Ronald Croushorn, Director, Food Assistance Division, Office of Capacity Building and Development, Foreign Agricultural Service, U.S. Department of Agriculture, Stop 1034, 1400 Independence Ave., SW., Washington, DC 20250-1034, or by telephone at (202) 720-3038, or by e-mail at ronald.croushorn@fas.usda.gov.

SUPPLEMENTARY INFORMATION:

Title: Regulations—Financing Commercial Sales of Agricultural Commodities under Title I, Public Law 83-480.

OMB Numbers: 0551-0005 (Records and Rule Keeping), 0551-0008 (Request for Vessel Approval Form), and 0551-0009 (Declaration of Sale Form) were combined into OMB Number 0551-0005 in 2003.

Expiration Date of Approval: January 31, 2010.

Type of Request: Extension of a currently approved information collection.

Abstract: Title I of the Food for Peace Act authorizes the CCC to finance the sale and exportation of agricultural commodities on concessional credit terms. This program was previously authorized by Title I of the Agricultural Trade Development and Assistance Act of 1954 (Pub. L. 83-480). Suppliers of commodities and ocean transportation must retain records for 3 years. Prospective commodity suppliers must provide information to the U.S. Department of Agriculture (USDA) to determine eligibility. Commodity suppliers must report by telephone details of sales for price approval and submit to USDA, for approval, information on any amendments to the sales. Form FAS-359, “Declaration of Sale,” is the written record, signed by the commodity supplier, of the terms of sale as reported by telephone. Shipping agents nominated by importing countries must submit information to allow identification of possible conflicts of interest. Shipping agents or embassies submit pertinent shipping information on Form CCC-105 to facilitate approval by CCC of shipping arrangements. This approval is necessary to assure compliance with cargo preference requirements at the lowest cost to CCC. USDA must receive this document before it can generate the CCC-106, which must be issued before an ocean carrier can receive payment for ocean freight. The information collected is used by CCC to manage, plan, evaluate and account for government resources. The reports and records are required to ensure the proper and judicious use of public funds.

Estimate Number of Respondents: 9.

Estimate Number of Responses per Respondent: 2.

Estimated Burden of Hours per Response: .58.

Estimated Total Annual Burden on Respondents: 11 hours.

Copies of this information collection can be obtained from Tamoria Thompson-Hall, the Agency Information Collection Coordinator, at (202) 690-1690.

Request for Comments: Send comments regarding (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on those who are to respond, including through the use of automated, electronic, mechanical, or other technological collection techniques or other forms of information technology. Persons with disabilities who require an alternative means for communication of information (Braille, large print, audiotape, etc.) should contact USDA's Target Center at (202) 720-2600 (voice and TDD). All responses to this notice will be summarized and included in the request for OMB approval. All comments will also become a matter of public record.

Signed at Washington, DC on November 3, 2009.
Michael V. Michener,
Administrator, Foreign Agricultural Service and Vice President, Commodity Credit Corporation.

[FR Doc. E9-27353 Filed 11-13-09; 8:45 am]

BILLING CODE 3410-10-P